DEPARTMENT OF HOUSING AND URBAN DEVELOPMENT

[Docket No. FR-5086-N-01]

Robert L. Woodson, Jr., Award: Changes to the Award Program

AGENCY: Office of General Counsel, HUD.

ACTION: Notice.

SUMMARY: In 2004, HUD established the Robert L. Woodson, Jr., Award (Woodson Award) as an annual award program of America's Affordable Communities Initiative. The award program was established to recognize state and local governments for excellence in providing affordable housing through regulatory reduction. Through this notice, HUD announces its intention to alter the award process in order to provide more flexibility in the nomination and selection of award recipients. HUD intends to eliminate time restrictions for submitting applications that nominate jurisdictions for exhibiting outstanding leadership in reducing regulatory burden. This notice would eliminate the current time restrictions for submitting applications for the Woodson Award. This notice would allow applications to be submitted at any time during the calendar year, and allow HUD to announce Woodson Award winners at any time during the year. This added flexibility should help encourage creativity in reducing regulatory barriers to affordable housing.

FOR FURTHER INFORMATION CONTACT: Camille E. Acevedo, Associate General Counsel for Legislation and Regulations, Office of General Counsel, Department of Housing and Urban Development, 451 Seventh Street, SW., Room 10282, Washington, DC 20410-0500, telephone (202) 708-1793 (this is not a toll-free number). Persons with hearing or speech impairments may access this number through TTY by calling the toll-free Federal Information Relay Service at (800) 877-8339.

SUPPLEMENTARY INFORMATION: In 2003, HUD established America's Affordable Communities Initiative (AACI) as a departmentwide effort designed to help communities across America identify and overcome regulatory barriers that impede the availability of affordable housing, as well as help HUD identify its own regulations that present barriers to the development of affordable housing. The Robert L. Woodson, Jr., Award, named in memory and in honor of HUD's late Chief of Staff, is designed to recognize state and local governments that aggressively work toward and have had success in the reduction of regulatory barriers to affordable housing.

The award program currently provides for nominations of jurisdictions to be submitted on an annual basis in March, with nominations reviewed and jurisdictions selected for awards generally by June of each year. In the first 2 years of the award program, one state agency and 17 communities from across the country received the Woodson Award.

As HUD reaches out to communities throughout the year, through AACI or other HUD initiatives, it strives to encourage efforts and activities to bring affordable housing within reach of all Americans. HUD has decided that it would be better to honor communities for being successful in regulatory reform at various times of the year, rather than only annually. HUD believes that a more frequent focus on states and communities that have successfully increased the supply of affordable housing through regulatory reform will better promote awareness of the effectiveness of this policy priority in creating affordable housing opportunities. The change may also help maintain an active national discussion of this important subject. In addition, the more immediate dissemination of the successful steps taken by the honorees to expand affordable housing may also be of immediate assistance to other communities exploring similar ideas.

This notice announces that, commencing with Fiscal Year 2007 (which begins October 1, 2006), state and local governments can be nominated for and receive a Woodson Award at any point during the year. In addition to the benefits that HUD sees through this change in the award program, HUD also believes that it will reduce the burden on those who desire to nominate state and local governments by eliminating the time constraints imposed by a set application date. This change will enable jurisdictions to apply for an award when they are best prepared to do so.

Additional information about the Robert L. Woodson, Jr., Award program, and the recipients honored to date, and America's Affordable Communities Initiative can be found at http:// www.hud.gov/affordablecommunities.

Dated: August 21, 2006.
A. Bryant Applegate,
Senior Counsel and Director of America's Affordable Communities Initiative.

[FR Doc. E6-14249 Filed 8-28-06; 8:45 am]

BILLING CODE 4210-67-P